DEPARTMENT OF TRANSPORTATION

Federal Railroad Administration

[Docket No. FRA-2023-0002-N-36]

Proposed Agency Information Collection Activities; Comment Request

AGENCY: Federal Railroad Administration (FRA), Department of Transportation (DOT).

ACTION: Notice of information collection; request for comment.

SUMMARY: Under the Paperwork Reduction Act of 1995 (PRA) and its implementing regulations, FRA seeks approval of the Information Collection Request (ICR) summarized below. Before submitting this ICR to the Office of Management and Budget (OMB) for approval, FRA is soliciting public comment on specific aspects of the activities identified in the ICR.

DATES: Interested persons are invited to submit comments on or before February 9, 2024.

ADDRESSES: Written comments and recommendations for the proposed ICR should be submitted on regulations.gov to the docket, Docket No. FRA-2023-0002. All comments received will be posted without change to the docket, including any personal information provided. Please refer to the assigned OMB control number (2130-0533) in any correspondence submitted. FRA will summarize comments received in a subsequent 30-day notice and include them in its information collection submission to OMB for approval.

FOR FURTHER INFORMATION CONTACT: Ms. Arlette Mussington, Information Collection Clearance Officer, at email: arlette.mussington@dot.gov or telephone: (571) 609-1285, or Ms. Joanne Swafford, Information Collection Clearance Officer, at email: joanne.swafford@dot.gov or telephone: (757) 897-9908.

SUPPLEMENTARY INFORMATION: The PRA, 44 U.S.C. 3501-3520, and its implementing regulations, 5 CFR part 1320, require Federal agencies to provide 60 days' notice to the public to allow comment on information collection activities before seeking OMB approval of the activities. See 44 U.S.C. 3506, 3507; 5 CFR 1320.8 through 1320.12. Specifically, FRA invites interested parties to comment on the following ICR regarding: (1) whether the information collection activities are necessary for FRA to properly execute its functions, including whether the activities will have practical utility; (2) the accuracy of FRA's estimates of the burden of the information collection activities, including the validity of the methodology and assumptions used to determine the estimates; (3) ways for FRA to enhance the quality, utility, and clarity of the information being collected; and (4) ways for FRA to minimize the burden of information collection activities on the public, including the use of automated collection techniques or other forms of information technology. See 44 U.S.C. 3506(c)(2)(A); 5 CFR 1320.8(d)(1).

FRA believes that soliciting public comment may reduce the administrative and paperwork burdens associated with the collection of information that Federal regulations mandate. In summary, comments received will advance three objectives: (1) reduce reporting burdens; (2) organize information collection requirements in a “user-friendly” format to improve the use of such information; and (3) accurately assess the resources expended to retrieve and produce information requested. See 44 U.S.C. 3501.

The summary below describes the ICR that FRA will submit for OMB clearance as the PRA requires:

Title: Qualification and Certification of Locomotive Engineers.

OMB Control Number: 2130-0533.

Abstract: Section 4 of the Rail Safety Improvement Act of 1988, Public Law 100-342, 102 Stat. 624 (June 22, 1988), later amended and re-codified by Public Law 103-272, 108 Stat. 874 (July 5, 1994), required FRA to issue regulations to establish any necessary program for certifying or licensing locomotive engineers. The collection of information is used by FRA to ensure that railroads employ and properly train qualified individuals as locomotive engineers and designated supervisors of locomotive engineers (DSLEs).

The collection of information is used by FRA to verify that railroads have established required certification programs for locomotive engineers and that these programs fully conform to the standards specified in the regulation.

In this 60-day notice, FRA makes adjustments that increased the burden hours from 23,964 to 23,969 hours. This increase is a result of a correction of rounding errors from the previous submission and in the number of estimated qualified DSLEs and locomotive engineers as required under 49 CFR 240.201 and 240.221.

Type of Request: Extension without change (with changes in estimates) of a currently approved collection.

Affected Public: Businesses (Railroads).

Form(s): N/A.

Respondent Universe: 784 Railroads.

Frequency of Submission: On occasion; annually; triennially.

Reporting Burden
CFR section | Respondent universe | Total annual responses | Average time per response | Total annual burden hours | Wage rate | Total cost equivalent in U.S. dollars
|  | (A) | (B) | (C = A * B) |  | (D = C * wage rates) ¹
240.9—Waivers | 784 railroads | 2 waiver petitions | 1.00 hour | 2.00 | $85.93 | $171.86
240.101/103—Certification Program: written program for certifying qualifications of locomotive engineers—material modifications | 784 railroads | 25 material modifications | 5.00 minutes | 2.08 | 85.93 | 178.73
—Certification programs for new railroads | 5 new railroads | 5 programs | 1.00 hour | 5.00 | 85.93 | 429.65
—New railroads final review and submission of certification program | 5 new railroads | 5 reviews | 1.00 hour | 5.00 | 85.93 | 429.65
—(b)(1)—RR provision of copy of certification program submission or resubmission to president of labor unions representing employees simultaneously with filing with FRA | 62 railroads | 62 copies | 5.00 minutes | 5.17 | 85.93 | 444.26
—(b)(2)—RR affirmative statement that it has served certification program copy to labor unions | 62 railroads | 62 copies | 5.00 minutes | 5.17 | 85.93 | 444.26
—(c)—RR employee comment on submission, resubmission, or material modification of RR certification program | 62 railroads | 62 comments | 8.00 hours | 496.00 | 85.93 | 42,621.28
—(h)—RR material modifications to program after initial FRA approval (formerly under (e)) | 784 railroads | 10 modified programs | 10.00 minutes | 1.67 | 85.93 | 143.50
240.105(c) Written reports/determinations of DSLE performance skills | 784 railroads | 10 written reports | 30.00 minutes | 5.00 | 123.41 | 617.05
240.109/App. C—Prior safety conduct data | 17,667 candidates | 25 responses | 5.00 minutes | 2.08 | 63.07 | 131.19
240.111/App C—Driver's license data requests from chief of driver licensing agency of any jurisdiction, including foreign countries | 17,667 candidates | 17,667 requests | 10.00 minutes | 2,944.50 | 85.93 | 253,020.89
—NDR match—notifications and requests for data | 784 railroads | 177 notices +177 requests | 5 + 5 minutes | 29.50 ² | 85.93 63.07 | 2,197.75
—Written response from candidate on driver's license data | 784 railroads | 20 cases/comments | 10.00 minutes | 3.33 | 63.07 | 210.02
240.111(g)—Notice to RR of absence of license | 53,000 candidates | 4 letters | 5.00 minutes | 0.33 | 63.07 | 20.81
240.111(h)—Duty to furnish data on prior safety conduct as motor vehicle operator | 784 railroads | 100 communications | 5.00 minutes | 8.33 | 63.07 | 525.37
240.113—Notice to RR furnishing data on prior safety conduct—different RR | 17,667 candidates | 353 requests + 353 responses | 5 + 5 minutes | 58.84 ³ | 85.93 63.07 | 4,383.58
240.115(d)—RR temporary certification or recertification of locomotive engineer for 60 days after having requested the motor vehicle information specified in paragraph (h) of this section | 784 railroads | 25 recertifications | 5.00 minutes | 2.08 | 85.93 | 178.73
—(i)(2)—RR drug and alcohol counselor request of employee's record of prior counseling or treatment | 17,667 candidates | 400 requests | 5.00 minutes | 33.33 | 63.07 | 2,102.12
—(i)(3)—Conditional certification based on recommendation by drug and alcohol counselor (DAC) of employee aftercare and/or follow-up testing for alcohol/drugs | 17,667 candidates | 100 conditional certifications/DAC recommendations | 1.00 hour | 100.00 | 63.07 | 6,307.00
—(i)(4)—RR employee is evaluated by DAC as having an active substance abuse disorder | 17,667 candidates | 100 DAC evaluations | 1.00 hour | 100.00 | 63.07 | 6,307.00
240.117(i)(4)—RR employee completion of training/retraining prior to return to service—records | 53,000 locomotive engineers | 400 trained/retrained records | 5.00 minutes | 33.33 | 63.07 | 2,102.12
240.119(c)—Written records indicating dates that the engineer stopped performing or returned to certification service + compliance/observation test | 784 railroads | 400 records | 5.00 minutes | 33.33 | 63.07 | 2,102.12
240.119(d)—Self-referral re: active substance abuse disorder | 53,000 locomotive engineers | 150 self-referrals | 5.00 minutes | 12.50 | 63.07 | 788.38
240.119(e)(3)(i)—RR determination that the most recent incident occurred | The estimated paperwork burden for this requirement is included above under § 240.119(c).
240.119(e)(3)(ii)—RR notification to person that recertification has been denied or revoked | 784 railroads | 200 notifications | 30.00 minutes | 100.00 | 63.07 | 6,307.00
240.119(e)(4)(iii)—Locomotive engineer waiver of investigation in case of one violation of section 219.101 | 53,000 locomotive engineers | 200 waivers | 2.00 minutes | 6.67 | 63.07 | 420.68
240.121—Criteria—vision/hearing acuity data—new railroads | 5 railroads | 5 copies | 5.00 minutes | 0.42 | 85.93 | 36.09
240.121—Criteria—vision/hearing acuity data—condition certification | 784 railroads | 5 reports | 5.00 minutes | 0.42 | 123.41 | 51.83
240.121—Criteria—vision/hearing acuity data—not meeting standards—notice by employee | 784 railroads | 10 notifications | 5.00 minutes | 0.83 | 63.07 | 52.35
240.129(b)—RR documents on file regarding determination made regarding operational fitness | 53,000 locomotive engineers | 1,000 records | 5.00 minutes | 83.33 | 85.93 | 7,160.55
240.201/221—List of qualified DSLEs | 784 railroads | 784 updates | 5.00 minutes | 65.33 | 85.93 | 5,613.81
240.201/221—List of qualified locomotive engineers | 784 railroads | 784 updated lists | 5.00 minutes | 65.33 | 85.93 | 5,613.81
240.201/223/301—Locomotive engineers certificate | 53,000 candidates | 17,667 certificates | 5.00 minutes | 1,472.25 | 85.93 | 126,510.44
240.207—Medical certificate showing hearing/vision standards are met | 53,000 candidates | 17,667 certificates | 30.00 minutes | 8,833.50 | 123.41 | 1,090,142.24
—Written determinations waiving use of corrective device | 784 railroads | 30 determinations | 5.00 minutes | 2.50 | 123.41 | 308.53
240.219(a)—RR notification letter to employee of certification denial + employee written rebuttal | 17,667 candidates | 90 letters and responses | 30.00 minutes | 45.00 | 85.93 | 3,866.85
—RR Notice/written documents/records to candidate that support its pending denial decision | 784 railroads | 45 documents/records | 2.00 minutes | 1.50 | 85.93 | 128.90
240.229(3)(ii)—Joint operations—notice—not qualified | 321 railroads | 184 employee calls | 5.00 minutes | 15.33 | 63.07 | 966.86
240.301(b)—Temporary replacement certificates valid for no more than 30 days | 784 railroads | 600 replacement certificates | 30.00 minutes | 300.00 | 85.93 | 25,779.00
240.305(c)—Engineer's notice of non-qualification to RR | 53,000 engineers or candidates | 100 notifications | 5.00 minutes | 8.33 | 63.07 | 525.37
—(d)—Relaying certification denial or revocation status to other certifying railroad | 1,060 engineers | 2 letters | 15.00 minutes | 0.50 | 63.07 | 31.54
240.307(a-b)—Notice to engineer of disqualification | 784 railroads | 550 + 550 letters | 1 + 1 hour | 1,100.00 ⁴ | 85.93 63.07 | 81,950.00
240.307(b)(4)—RR provision to employee of copy of written information and list of witnesses that it will present at hearing | 784 railroads | 690 copies/list | 5.00 minutes | 57.50 | 85.93 | 4,940.98
240.307(b)(5)—RR determination on hearing record whether person no longer meets certification requirements of this CFR part | 784 railroads | 690 hearing determination | 1.00 hour | 690.00 | 85.93 | 59,291.70
240.307(c)(11)(i)(ii)—RR written decision after close of hearing containing findings of fact & whether a revocable event occurred | 784 railroads | 690 written decisions | 30.00 minutes | 345.00 | 85.93 | 29,645.85
240.307(c)(11)(iii)—RR service of written decision on employee and employee's representative | 784 railroads | 690 copies | 5.00 minutes | 57.50 | 85.93 | 4,940.98
240.307(f)—Personal waiver of right to hearing under this section | 784 railroads | 750 written waivers | 5.00 minutes | 62.50 | 63.07 | 3,941.88
240.307(j)—RR update of record with relevant information | 784 railroads | 50 updated records | 10.00 minutes | 8.33 | 85.93 | 715.80
240.309—RR oversight responsibilities: detected poor safety conduct—annotation | 15 railroads | 6 annotations | 15.00 minutes | 1.50 | 63.07 | 94.61
—Railroad annual review | 51 railroads | 51 reviews | 3.00 hours | 153.00 | 85.93 | 13,147.29
240.205—Data to DAC Counselor | 784 railroads | 177 records | 5.00 minutes | 14.75 | 123.41 | 1,820.30
240.209/213—Written documentation of tests | 53,000 candidates | 17,667 testing records | 1.00 minute | 294.45 | 85.93 | 25,302.09
240.211/213—Written documentation of performance tests | 53,000 candidates | 17,667 testing records | 1.00 minute | 294.45 | 85.93 | 25,302.09
240.215—Retaining information supporting determination | 784 railroads | 17,667 records | 5.00 minutes | 1,472.25 | 85.93 | 126,510.44
240.303—Annual operational monitoring observation | 53,000 candidates | 53,000 testing records | 1.00 minute | 883.33 | 85.93 | 75,904.55
240.303—Annual operating rules compliance test | 53,000 candidates | 53,000 testing records | 1.00 minute | 883.33 | 85.93 | 75,904.55
240.307(b)(4)—RR hearings/hearing records | 784 railroads | 690 hearings/records | 4.00 hours | 2,760.00 | 85.93 | 237,166.80
Total ⁵ | 784 railroads | 224,652 responses | N/A | 23,969 | N/A | 2,365,953

Total Estimated Annual Responses: 224,652.

¹ Throughout the tables in this document, the dollar equivalent cost is derived from the 2022 Surface Transportation Board Full Year Wage A & B data series using the appropriate employee group to calculate the average hourly rate that includes 75 percent overhead.

² Total burden hours are divided equally for each requirement 14.75 + 14.75 = 84.84 hours.

³ Total burden hours are divided equally for each requirement 29.42 + 29.42 = 84.84 hours.

⁴ Total burden hours are divided equally for each requirement 550 + 550 = 84.84 hours.

⁵ Totals may not add up due to rounding.

Total Estimated Annual Burden: 23,969.

Total Estimated Annual Dollar Cost Equivalent: $2,365,953.

FRA informs all interested parties that it may not conduct or sponsor, and a respondent is not required to respond to, a collection of information that does not display a currently valid OMB control number.

Authority: 44 U.S.C. 3501-3520.

Allison Ishihara Fultz,
Chief Counsel.

[FR Doc. 2023-28382 Filed 12-22-23; 8:45 am]

BILLING CODE 4910-06-P